DEPARTMENT OF TRANSPORTATION

Federal Highway Administration

Safe, Accountable, Flexible, Efficient Transportation Equity Act: A Legacy for Users (SAFETEA-LU); Value Pricing Pilot Program Participation

AGENCY: Federal Highway Administration (FHWA), DOT.

SUMMARY: This notice revises a previous notice, published in the Federal Register on January 6, 2006 (71 FR 970), which invited State and local governments and other public authorities to apply to participate in the Value Pricing Pilot (VPP) program and presented guidelines for program applications. That notice described the statutory basis for the VPP program and updated a previous notice published in the Federal Register on May 7, 2001 (66 FR 23077), by providing revised procedures, process timelines, and guidance for program participation. The purpose of today's notice is to announce a delay in the consideration of applications for fiscal year (FY) 2007 funds and to temporarily suspend the deadlines to apply for such funds. The purpose of this delay is to allow the FHWA to revise the VPP program guidance to solicit certain types of projects that further the goals of the Secretary of Transportation's new National Strategy to Reduce Congestion on America's Transportation Network, announced on May 16, 2006.¹

¹ Speaking before the National Retail Federation's annual conference May 16, 2006, in Washington DC. U.S. Transportation Secretary Norman Mineta unveiled a new plan to reduce congestion plaguing America's roads, rail and airports. The National Strategy to Reduce Congestion on America's Transportation Network includes a number of initiatives designed to reduce transportation congestion. The transcript of these remarks is available at the following URL: http://www.dot.gov/affairs/minetasp051606.htm.

DATES: This notice temporarily suspends the due dates for Expressions of Interest and formal grant applications for FY 2007 VPP program funds that were published in the January 6, 2006 notice. A subsequent notice will be issued providing new deadlines along with revised guidelines for applications.

FOR FURTHER INFORMATION CONTACT: For questions about this notice, contact Mr. Wayne Berman, Office of Operations, (202) 366-4069, or via e-mail at wayne.berman@fhwa.dot.gov; for specific information about the Value Pricing Pilot Program, contact Mr. Patrick DeCorla-Souza, Office of Operations, (202) 366-4076, or via e-mail at patrick.decorla-souza@fhwa.dot.gov; and for legal questions, Mr. Michael Harkins, Office of the Chief Counsel, (202) 366-4928; Michael.harkins@dot.gov. The FHWA is located at 400 Seventh Street, SW., Washington, DC, 20590, and office hours are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

Section 1012(b) of the Intermodal Surface Transportation Efficiency Act (ISTEA) (Pub. L. 102-240; 105 Stat. 1914), as amended by section 1216(a) of the Transportation Equity Act (TEA-21) (Pub. L. 105-178; 112 Stat. 107), and section 1604(a) of Safe, Accountable, Flexible, Efficient Transportation Equity Act: A Legacy for Users (SAFETEA-LU) (Pub. L. 109-59; 119 Stat. 1144), authorizes the Secretary of Transportation (the Secretary) to create a Value Pricing Pilot (VPP) program. Value pricing encompasses a variety of strategies to manage congestion on highways, including tolling of highway facilities, as well as other strategies that do not involve tolls. A maximum of $12 million is authorized for each of the fiscal years 2006 through 2009 to be made available to carry out the VPP program requirements. Of these amounts, the statute requires the Secretary to set-aside $3 million for each of fiscal years 2006 through 2009 for value pricing pilot projects that do not involve highway tolls.

The Federal share payable under the program is 80 percent of the cost of the project. The Secretary is required to report to Congress every two years on the effects of all value pricing pilot programs. In the FHWA's January 6, 2006, Federal Register notice, the FHWA established deadlines for expressions of interest and project applications for VPP project funding requests.

Temporary Suspension of Application Deadlines

Today's notice delays consideration of applications for FY 2007 VPP program funds and temporarily suspends the deadlines to apply for such funds. Under the January 6, 2006, notice formal applications for FY 2007 funds were to be due by October 1, 2006, and Expressions of Interest were to be required two months prior, by August 1, 2006, to be assured of the maximum amount of constructive assistance from the FHWA in preparing formal applications.

The purpose of this delay is to allow the FHWA to revise the VPP program guidance to solicit certain types of projects that further the goals of the Secretary of Transportation's new National Strategy to Reduce Congestion on America's Transportation Network, announced on May 16, 2006. This national strategy contains a number of elements that involve pricing, and thus a reconsideration of the types of projects that are being solicited for VPP program participation is warranted to ensure consistency with the national strategy. Value Pricing Pilot program participants, and potential participants, may continue to submit Expressions of Interest for VPP projects that do not involve requests for VPP funding and for which only tolling authority is requested.

Authority: 23 U.S.C. 315; sec. 1012(b), Public Law 102-240, 105 Stat. 1914, as amended by sec. 1216(a), Public Law 105-178, 112 Stat. 107 and Public Law 109-59; 117 Stat. 1144; 49 CFR 1.48.

Issued on: July 12, 2006.
Frederick G. Wright, Jr.,
Federal Highway Executive Director.

[FR Doc. E6-11275 Filed 7-14-06; 8:45 am]

BILLING CODE 4910-22-P